ENVIRONMENTAL PROTECTION AGENCY

[FRL-6911-9]

Agency Information Collection Activities: Submission for OMB Review; Comment Request; National Emission Standards for Hazardous Air Pollutants From Wood Furniture Manufacturing Operations

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: National Emissions Standards for Hazardous Air Pollutants From Wood Furniture Manufacturing Operations, (40 CFR part 63, subpart JJ), OMB number 2060-0324, Expiration Date February 28, 2001. The ICR describes the nature of the information collection and its expected burden and cost; where appropriate, it includes the actual data collection instrument.

DATES: Comments must be submitted on or before January 4, 2001.

ADDRESSES: Send comments, referencing EPA ICR number 1716.03, OMB number 2060-0324 to the following addresses: Sandy Farmer, U.S. Environmental Protection Agency, Collection Strategies Division (Mail Code 2822), 1200 Pennsylvania Avenue, NW, Washington, DC 20460; and to Office of Information and Regulatory Affairs, Office of Management and Budget (OMB), Attention: Desk Officer for EPA, 725 17th Street, NW, Washington, DC 20503.

FOR FURTHER INFORMATION CONTACT: For a copy of the ICR contact Sandy Farmer at EPA by phone at (202) 260-2740, by E-Mail at Farmer.Sandy@epamail.epa.gov or download off the Internet at http://www.epa.gov/icr/icr.htm and refer to EPA ICR No. 1716.03. For Technical questions about the ICR, contact Robert C. Marshall, Jr. (202) 564-7021.

SUPPLEMENTARY INFORMATION: Title: National Emissions Standards for Hazardous Air Pollutants From Wood Furniture Manufacturing Operations, (40 CFR part 63, subpart JJ), OMB number 2060-0324, EPA ICR number 1716.03, expiration date February 28, 2001. This is a request for extension of a currently approved collection.

Abstract: Respondents to this information collection request are the owners and operators of both new and existing wood furniture manufacturing operations that are major sources of hazardous air pollutants. Respondents are required to submit both initial and regular semiannual compliance reports and to perform record keeping activities. The information is used to determine that all sources subject to the rule are complying with the standards. The information to be collected is mandatory under the rule. An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 17, 2000 (FR 50196); no comments were received.

Burden Statement: The annual public reporting and record keeping burden for this collection of information is estimated to average 2 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Wood Furniture Manufacturers.

Estimated Number of Respondents: 750.

Frequency of Response: On occasion, quarterly, semi-annually and annually.

Estimated Total Annual Hour Burden: 92,071 hours.

Estimated Total Annualized Capital, O&M Cost Burden: $40,500.

Send comments on the Agency's need for this information, the accuracy of the provided burden estimates, and any suggested methods for minimizing respondent burden, including through the use of automated collection techniques to the addresses listed above. Please refer to EPA ICR number 1716.03, OMB number 2060-0324 in any correspondence.

Dated: November 28, 2000.
Oscar Morales,
Director, Collection Strategies Division.

[FR Doc. 00-30910 Filed 12-04-00; 8:45 am]

BILLING CODE 6560-50-P